FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
003568NF | CTSI Logistics, Inc., 600 Sylvan Avenue, 24th Floor, Englewood Cliffs, NJ 07632 | April 22, 2004.
003110NF | International Freight Transport Inc., 88 South Avenue, Fanwood, NJ 07023 | November 6, 2003.
003286F | Rialto International, Inc., 4636 East Marginal Way South, Suite 201, Seattle, WA 98134 | April 14, 2004.
003718F | Sunship International Inc., 6815 W. 95th Street, Suite #1, NE., Oak Lawn, IL 60453 | April 23, 2004.
003874NF | World Project Services, International, Inc., 650 E. North Sam Houston, Parkway, Suite 231, Houston, TX 77060 | April 28, 2004.

Sandra L. Kusumoto,
Director, Bureau of Consumer Complaints and Licensing.

[FR Doc. 04-11922 Filed 5-25-04; 8:45 am]

BILLING CODE 6730-01-P